DEPARTMENT OF ENERGY

Electricity Advisory Committee

AGENCY: Department of Energy, Office of Electricity Delivery and Energy Reliability.

ACTION: Notice of open meeting.

SUMMARY: This notice announces the open meeting of the re-established DOE Electricity Advisory Committee. The Federal Advisory Committee Act (Pub. L. 92-463, 86 Stat. 770) (5 U.S.C. App.), as amended, requires that public notice of these meetings be announced in the Federal Register.

DATES: Friday, October 29, 2010, 8 a.m.-3 p.m. EDT.

ADDRESSES: National Rural Electric Cooperative Association, 4301 Wilson Boulevard, Arlington, Virginia 22203.

FOR FURTHER INFORMATION CONTACT: David Meyer, Designated Federal Officer, Office of Electricity Delivery and Energy Reliability, U.S. Department of Energy, Forrestal Building, Room 8G-024, 1000 Independence Avenue, SW., Washington, DC 20585; Telephone: (202) 586-8118 or E-mail: David.Meyer@hq.doe.gov.

SUPPLEMENTARY INFORMATION:

Background

The Electricity Advisory Committee (EAC) was re-established in July 2010 to provide advice to the Department on implementing the Energy Policy Act of 2005 (Pub. L 109-58) and the Energy Independence and Security Act of 2007 (Pub. L. 110-140), as well as on modernizing the nation's electricity delivery infrastructure. The Committee is composed of 27 individuals of diverse backgrounds selected for their technical expertise and experience, established records of distinguished professional service, and knowledge of issues that pertain to electricity.

Purpose of the Meeting

The meeting of the re-established Electricity Advisory Committee is expected to include introduction of Committee Members, discussion of the 2010-2011 objectives of the Committee, and a discussion of whether to establish subcommittees on specific subjects.

Tentative Agenda

The principal business item on the agenda will be to begin the Committee's consideration and selection of study topics related to electricity delivery that it will focus on over the coming 12-24 months.

The meeting agenda may change to accommodate Committee business. For Committee agenda updates, see the Committee Web site at: http://www.oe.energy.gov/eac.htm.

Public Participation

The meeting is open to the public. Any member of the public interested in offering comments at the EAC meeting may do so on the day of the meeting, Friday, October 29, 2010. Approximately one-half hour will be reserved for public comments. Time allotted per speaker will depend partly on the number who wish to speak but is not expected to exceed three minutes. Anyone who is not able to attend the meeting or who has not had sufficient time to address the EAC is invited to send a written statement to Mr. David Meyer (see ADDRESSES). Such statements will then be circulated to the EAC. The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. DOE is responsible for the final determination concerning disclosure or nondisclosure of the information and for treating it in accordance with the DOE's Freedom of Information regulations (10 CFR 1004.11).

Note: Delivery of the U.S. Postal Service mail to DOE continues to be delayed by several weeks due to security screening. DOE therefore encourages those wishing to comment to submit comments electronically by e-mail. If comments are submitted by regular mail, the Department requests that they be accompanied by a CD or diskette containing electronic files of the submission.

Minutes

The minutes of the first meeting of the EAC are expected to be available within 45 days of the meeting on the Committee Web site at http://www.oe.energy.gov/eac.htm or by contacting Mr. David Meyer (see ADDRESSES).

Issued in Washington, DC, on September 29, 2010.
LaTanya R. Butler,
Acting Deputy Committee Management Officer.

[FR Doc. 2010-24908 Filed 10-4-10; 8:45 am]

BILLING CODE 6405-01-P